DEPARTMENT OF THE INTERIOR

Bureau of Land Management

[LLAK930000.L13100000.FF0000.241; OMB Control Number 1004-0201]

Agency Information Collection Activities; Submission to the Office of Management and Budget for Review and Approval; Oil Shale Management

AGENCY: Bureau of Land Management, Interior.

ACTION: Notice of information collection; request for comment.

SUMMARY: In accordance with the Paperwork Reduction Act of 1995, we, the Bureau of Land Management (BLM), are proposing to renew an information collection.

DATES: Interested persons are invited to submit comments on or before March 2, 2018.

ADDRESSES: Send written comments on this information collection request (ICR) to the Office of Management and Budget's Desk Officer for the Department of the Interior by email at OIRA_Submission@omb.eop.gov; or via facsimile to (202) 395-5806. Please provide a copy of your comments to Jean Sonneman, U.S. Department of the Interior, Bureau of Land Management, 1849 C Street NW, Room 2134LM, Washington, DC 20240; or by email to jesonnem@blm.gov. Please reference OMB Control Number 1004-0201 in the subject line of your comments.

FOR FURTHER INFORMATION CONTACT: To request additional information about this ICR, contact Mary Linda Ponticelli by email at mpontice@blm.gov, or by telephone at 202-912-7115. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on November 13, 2017 (82 FR 52317). No comments were received.

We are again soliciting comments on the proposed ICR that is described below. We are especially interested in public comment addressing the following issues: (1) Is the collection necessary to the proper functions of the BLM; (2) will this information be processed and used in a timely manner; (3) is the estimate of burden accurate; (4) how might the BLM enhance the quality, utility, and clarity of the information to be collected; and (5) how might the BLM minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: This control number applies to the exploration, development, and utilization of oil shale resources on the BLM-managed public lands. Currently, the only oil shale leases issued by the BLM are for research, development, and demonstration (R, D and D) leases. However, the BLM regulations provide a framework for commercial oil shale leasing and additionally include provisions for conversion of R, D and D leases to commercial leases.

Title of Collection: Oil Shale Management (43 CFR parts 3900, 3910, 3920 and 3930).

OMB Control Number: 1004-0201.

Form Number: None.

Type of Review: Extension of a currently approved collection.

Respondents/Affected Public: Applicants for oil shale leases, oil shale lessees and oil shale operators.

Total Estimated Number of Annual Respondents: 24.

Total Estimated Number of Annual Responses: 24.

Estimated Completion Time per Response: Varies from the number of minutes/hours per response.

Total Estimated Number of Annual Burden Hours: 1,795.

Respondent's Obligation: Required to obtain a benefit.

Frequency of Collection: On occasion.

Total Estimated Annual Non Hour Burden Cost: $526,632.

Type of response | Number of responses | Hours per response | Total time (Column B × Column C)
A. | B. | C. | D.
Application for Waiver, Suspension, or Reduction of Rental or Payment In Lieu of Production; Application for Reduction in Royalty; or Application for Waiver of Royalty, 43 CFR 3903.54(b) | 1 | 1 | 1
Bonding Requirements, 43 CFR Subpart 3904 | 1 | 1 | 1
Application for an Exploration License, 43 CFR 3910.31(a) through (e) | 1 | 24 | 24
Notice Seeking Participation in an Exploration License, 43 CFR 3910.31(f) | 1 | 1 | 1
Data Obtained Under an Exploration License, 43 CFR 3910.44 | 1 | 8 | 8
Response to Call for Expression of Leasing Interest, 43 CFR 3921.30 | 1 | 4 | 4
Application for a Lease—Individuals, 43 CFR 3902.23, 3922.20, and 3922.30 | 1 | 308 | 308
Application for a Lease—Associations, 43 CFR 3902.24, 3922.20, and 3922.30 | 1 | 308 | 308
Application for a Lease—Corporations, 43 CFR 3902.25, 3922.20, and 3922.30 | 1 | 308 | 308
Sealed Bid, 43 CFR 3924.10 | 1 | 8 | 8
Application to Convert Research, Development, and Demonstration Lease to Commercial Lease, 43 CFR 3926.10(c) | 1 | 308 | 308
Drill and Geophysical Logs, 43 CFR 3930.11(b) | 1 | 19 | 19
New Geologic Information, 43 CFR 3930.20(b) | 1 | 19 | 19
Plan of Development, 43 CFR 3931.11 | 1 | 308 | 308
Application for Suspension of Lease Operations and Production, 43 CFR 3931.30 | 1 | 24 | 24
Exploration Plan, 43 CFR 3931.41 | 1 | 24 | 24
Modification of Approved Exploration Plan or Plan of Development, 43 CFR 3931.50 | 1 | 24 | 24
Production Maps and Production Reports, 43 CFR 3931.70 | 1 | 16 | 16
Records of Core or Test Hole Samples and Cuttings, 43 CFR 3931.80 | 1 | 16 | 16
Application for Modification of Lease Size, 43 CFR 3932.10, 3930.20, and 3932.30 | 1 | 12 | 12
Request for Approval of Assignment of Record Title or Sublease or Notice of Overriding Royalty Interest Assignment, 43 CFR Subpart 3933 | 2 | 10 | 20
Relinquishment of Lease or Exploration License, 43 CFR 3934.10 | 1 | 18 | 18
Production and Sale Records, 43 CFR 3935.10 | 1 | 16 | 16
Totals | 24 |  | 1,795

An agency may not conduct or sponsor—and a person is not required to respond to—a collection of information unless it displays a currently valid OMB control number.

The authority for this action is the Paperwork Reduction Act of 1995 (44 U.S.C. 3501 et seq).

Chandra Little,
Acting Information Collection Clearance Officer.

[FR Doc. 2018-01897 Filed 1-30-18; 8:45 am]

BILLING CODE 4310-84-P